DEPARTMENT OF TRANSPORTATION

Federal Aviation Administration

14 CFR Part 39

[Docket No. FAA-2018-1011; Product Identifier 2018-NM-131-AD; Amendment 39-19691; AD 2019-14-13]

RIN 2120-AA64

Airworthiness Directives; The Boeing Company Airplanes

AGENCY: Federal Aviation Administration (FAA), DOT.

ACTION: Final rule.

SUMMARY: The FAA is adopting a new airworthiness directive (AD) for all The Boeing Company Model 767-200, -300, -300F, and -400ER series airplanes. This AD was prompted by reports of uncommanded fore/aft movements of the Captain's and First Officer's seats. This AD requires an identification of the part number, and if applicable the serial number, of the Captain's and First Officer's seats, and applicable on-condition actions. This AD also requires a one-time detailed inspection and repetitive checks of the horizontal movement system of the Captain's and First Officer's seats, and applicable on-condition actions. This AD also provides an optional terminating action for the repetitive checks of the horizontal movement system for certain airplanes. The FAA is issuing this AD to address the unsafe condition on these products.

DATES: This AD is effective September 12, 2019.

The Director of the Federal Register approved the incorporation by reference of certain publications listed in this AD as of September 12, 2019.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2018-1011.

Examining the AD Docket

You may examine the AD docket on the internet at http://www.regulations.gov by searching for and locating Docket No. FAA-2018-1011; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Brandon Lucero, Aerospace Engineer, Cabin Safety and Environmental Systems Section, FAA, Seattle ACO Branch, 2200 South 216th St., Des Moines, WA 98198; phone and fax: 206-231-3569; email: Brandon.Lucero@faa.gov.

SUPPLEMENTARY INFORMATION:

Discussion

The FAA issued a notice of proposed rulemaking (NPRM) to amend 14 CFR part 39 by adding an AD that would apply to all The Boeing Company Model 767-200, -300, -300F, and -400ER series airplanes. The NPRM published in the Federal Register on December 26, 2018 (83 FR 66172). The NPRM was prompted by reports of uncommanded fore/aft movements of the Captain's and First Officer's seats. The NPRM proposed to require an identification of the part number, and if applicable the serial number, of the Captain's and First Officer's seats, and applicable on-condition actions. The NPRM also proposed to require a one-time detailed inspection and repetitive checks of the horizontal movement system of the Captain's and First Officer's seats, and applicable on-condition actions. The NPRM also proposed to provide an optional terminating action for the repetitive checks of the horizontal movement system for certain airplanes.

Comments

The FAA gave the public the opportunity to participate in developing this final rule. The following presents the comments received on the NPRM and the FAA's response to each comment.

Support for the NPRM

Air Line Pilots Association, International (ALPA), supported the intent of the NPRM. FedEx had no objection to the NRPM.

Effect of Winglets on Accomplishment of the Proposed Actions

Aviation Partners Boeing stated that accomplishing Supplemental Type Certificate (STC) ST01920SE does not affect the actions specified in the proposed AD.

The FAA concurs with the commenter. Paragraph (c) of the proposed AD has been redesignated as paragraph (c)(1) of this AD, and paragraph (c)(2) has been added to this AD to state that installation of STC ST01920SE does not affect the ability to accomplish the actions required by this AD. Therefore, for airplanes on which STC ST01920SE is installed, a “change in product” alternative method of compliance (AMOC) approval request is not necessary to comply with the requirements of 14 CFR 39.17.

Requests To Include Records Review

ABX AIR, American Airlines, and Delta Air Lines (Delta) requested that the proposed AD include a provision to allow operators to do a records review to determine which airplanes have the affected seat part numbers installed. The commenters stated that not all of their Model 767 airplane fleets have the affected Captain's and First Officer's seats installed. Delta asserted that the affected seats are rotable parts that could later be installed on airplanes that were initially delivered with acceptable seats, thereby subjecting those airplanes to the identified unsafe condition. Delta pointed out that the affected seats are trackable and maintenance records and configuration control mechanisms can be used to ensure the affected seats are addressed. The commenters also noted that adding a records review would remove the undue burden on operators (i.e., need to create work instructions/task cards and added maintenance down time for inspecting airplanes and components that are not affected by the identified unsafe condition).

The FAA agrees with the commenters' requests. A records review will provide an acceptable means for operators to identify the part numbers of the Captain's and First Officer's seats installed on an airplane. Paragraph (g) of this AD has been revised to include the following statement: “A review of airplane maintenance records is acceptable in lieu of this inspection if the part number and serial number of the Captain's and First Officer's seats can be conclusively determined from that review.”

Request To Change to Component AD

United Parcel Service (UPS) requested that the applicability of the proposed AD be changed from Model 767 airplanes to the Captain's and First Officer's seats. The commenter also requested that operators use the Ipeco service information instead of the Boeing service information. The commenter noted that it is aware there will be other proposed ADs on other airplane models that would address the same unsafe condition identified in the proposed AD. The commenter noted that the affected Captain's and First Officer's seats are interchangeable across several airplane models and mandating ADs against those airplane models could result in a specific seat being installed on a Model 747 airplane with records identifying compliance with an AD that includes Model 767 airplanes in the applicability. The commenter stated that this could lead to confusion and questions regarding compliance when there is no effective difference between the two ADs.

The FAA infers that the commenter is requesting that this AD be changed to a component AD. The FAA does not agree with the commenter's request. A component AD would require any operator with an Ipeco seat installed on an airplane in its fleet to inspect all of the airplanes in its fleet to determine if an affected seat part number is installed. By limiting the applicability of this AD to the airplane model on which the affected Ipeco part numbers are known to be installed, the burden is reduced on operators. We acknowledge that the affected seats may be installed on other airplane models, such as the Model 747, 757, and 777. The FAA is considering other rulemaking to address the unsafe condition on those models. This AD has not been changed in regard to this issue.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA has also determined that these changes will not increase the economic burden on any operator or increase the scope of this final rule.

Additional Change to This Final Rule

The proposed AD referred to “uncommanded movement” in the description of the unsafe condition. This final rule clarifies the type of movement by specifying “uncommanded fore/aft movement” in the SUMMARY and Discussion sections, and paragraph (e), of this AD.

Related Service Information Under 1 CFR Part 51

The FAA reviewed Boeing Special Attention Service Bulletin 767-25-0539, Revision 1, dated July 17, 2018 (“BSASB 767-25-0539, Revision 1”). The service information describes procedures for identification of the part number, and, if applicable, the serial number of the Captain's and First Officer's seats, and applicable on-condition actions. The on-condition actions include an inspection of each seat's fore/aft and vertical manual control levers for looseness, installation of serviceable seats, and a seat functional test after any cable adjustment.

The FAA also reviewed Boeing Special Attention Service Bulletin 767-25-0549, Revision 1, dated August 10, 2018 (“BSASB 767-25-0549, Revision 1”). The service information describes procedures for a one-time detailed inspection and repetitive checks of the horizontal movement system of the Captain's and First Officer's seats for findings (e.g., evidence of cracks, scores, corrosion, dents, deformation or visible wear); and incorrectly assembled components (e.g., microswitch assemblies, actuators, and limit switches), and applicable on-condition actions. The on-condition actions include overhaul of the horizontal movement system, clearing the seat tracks of foreign object debris (FOD), replacement of the horizontal actuator, and replacement of the horizontal movement system. The service information also describes procedures for an optional terminating action for the repetitive checks by installing a serviceable Captain's or First Officer's seat.

Costs of Compliance

The FAA estimates that this AD affects 90 airplanes of U.S. registry. The FAA estimates the following costs to comply with this AD:

Estimated Costs for Required Actions
Action | Labor cost | Parts cost | Cost per product | Cost on U.S. operators
Identification, seat | 1 work-hour × $85 per hour = $85 per seat | $0 | $85 per seat | $7,650 per seat.
Detailed inspection, horizontal movement system | 1 work-hour × $85 per hour = $85, per seat | 0 | $85 per seat | $7,650 per seat.
Checks, horizontal movement system | 2 work-hour × $85 per hour = $170 per seat, per check cycle | 0 | $170 per seat, per check cycle | $15,130 per seat, per check cycle.

The FAA estimates the following costs to do any necessary on-condition actions that would be required. The FAA has no way of determining the number of aircraft that might need these on-condition actions:

Estimated Costs of On-Condition Actions *
Action | Labor cost | Parts cost | Cost per product
Adjustment, control lever cable | 1 work-hour × $85 per hour = $85, per seat | $0 | $85 per seat.
Overhaul or replacement, horizontal movement system | Up to 15 work-hours × $85 per hour = $1,275, per seat | Up to $6,400 per seat | Up to $7,675 per seat.
Inspection of each seat's fore/aft and vertical manual control levers | 1 work-hour × $85 per hour = $85, per seat | $0 | $85 per seat.
Installation of serviceable seats | 1 work-hour × $85 per hour = $85, per seat | $0 | $85 per seat.
Clearing FOD | 1 work-hour × $85 per hour = $85, per seat | $0 | $85 per seat.
Replacement of the horizontal actuator | 1 work-hour × $85 per hour = $85, per actuator | $205 | $290, per actuator.
Functional test, adjusted control lever cable | 1 work-hour × $85 per hour = $85, per seat | $0 | $85, per seat.
* The estimated cost for tooling to align an affected seat for adjustment of the control lever cable is up to $46,064.

The FAA has received no definitive data that would enable the agency to provide cost estimates for the optional terminating action for the on-condition repetitive checks specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-14-13 The Boeing Company: Amendment 39-19691; Docket No. FAA-2018-1011; Product Identifier 2018-NM-131-AD.

(a) Effective Date

This AD is effective September 12, 2019.

(b) Affected ADs

None.

(c) Applicability

(1) This AD applies to all The Boeing Company Model 767-200, -300, -300F, and

-400ER series airplanes, certificated in any category.

(2) Installation of Supplemental Type Certificate (STC) ST01920SE does not affect the ability to accomplish the actions required by this AD. Therefore, for airplanes on which STC ST01920SE is installed, a “change in product” alternative method of compliance (AMOC) approval request is not necessary to comply with the requirements of 14 CFR 39.17.

(d) Subject

Air Transport Association (ATA) of America Code 25, Equipment/Furnishings.

(e) Unsafe Condition

This AD was prompted by reports of uncommanded fore/aft movements of the Captain's and First Officer's seats. The FAA is issuing this AD to address uncommanded fore/aft movement of the Captain's and First Officer's seats. An uncommanded fore/aft seat movement during a critical part of a flight, such as take-off or landing, could cause a flight control obstruction or unintended flight control input, which could result in the loss of the ability to control the airplane.

(f) Compliance

Comply with this AD within the compliance times specified, unless already done.

(g) Seat Identification and On-Condition Actions

Within 36 months after the effective date of this AD, do an inspection to determine the part number, and serial number as applicable, of the Captain's and First Officer's seats, and do all applicable on-condition actions, in accordance with the Accomplishment Instructions of Boeing Special Attention Service Bulletin 767-25-0539, Revision 1, dated July 17, 2018. A review of airplane maintenance records is acceptable in lieu of this inspection if the part number and serial number of the Captain's and First Officer's seats can be conclusively determined from that review.

(h) Detailed Inspection and Repetitive Checks of Horizontal Movement System and On-Condition Actions

Except as specified in paragraph (i) of this AD: At the applicable times specified in paragraph 1.E., “Compliance,” of Boeing Special Attention Service Bulletin 767-25-0549, Revision 1, dated August 10, 2018 (“BSASB 767-25-0549, Revision 1”), do all applicable actions identified as “RC” (required for compliance) in, and in accordance with, the Accomplishment Instructions of BSASB 767-25-0549, Revision 1.

(i) Exceptions to Service Information Specifications

For purposes of determining compliance with the requirements of this AD: Where BSASB 767-25-0549, Revision 1, uses the phrase “the original issue date of this service bulletin,” this AD requires using “the effective date of this AD.”

(j) Optional Terminating Action for Repetitive Checks

(1) For Group 1, Configuration 2 and 4 airplanes identified in BSASB 767-25-0549, Revision 1: Installation of a serviceable Captain's seat, as specified in, and in accordance with, the Accomplishment Instructions of BSASB 767-25-0549, Revision 1, terminates the repetitive checks of the Captain's seat as required by paragraph (h) of this AD for that airplane only.

(2) For Group 1, Configuration 3 and 4 airplanes identified in BSASB 767-25-0549, Revision 1: Installation of a serviceable First Officer's seat, as specified in, and in accordance with, the Accomplishment Instructions of BSASB 767-25-0549, Revision 1, terminates the repetitive checks of the First Officer's seat as required by paragraph (h) of this AD for that airplane only.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) For service information that contains steps that are labeled as Required for Compliance (RC), the provisions of paragraphs (k)(4)(i) and (k)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

For more information about this AD, contact Brandon Lucero, Aerospace Engineer, Cabin Safety and Environmental Systems Section, FAA, Seattle ACO Branch, 2200 South 216th St., Des Moines, WA 98198; phone and fax: 206-231-3569; email: Brandon.Lucero@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 767-25-0539, Revision 1, dated July 17, 2018.

(ii) Boeing Special Attention Service Bulletin 767-25-0549, Revision 1, dated August 10, 2018.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on July 23, 2019.
Dionne Palermo,
Acting Director, System Oversight Division, Aircraft Certification Service.

[FR Doc. 2019-16813 Filed 8-7-19; 8:45 am]

BILLING CODE 4910-13-P